COMMODITY FUTURES TRADING COMMISSION

Agency Information Collection Activities: Notice of Intent To Renew Collection 3038-0096, Swap Data Recordkeeping and Reporting Requirements

AGENCY: Commodity Futures Trading Commission.

ACTION: Notice.

SUMMARY: The Commodity Futures Trading Commission (“CFTC” or “Commission”) is announcing an opportunity for public comment on the proposed collection of certain information by the agency. Under the Paperwork Reduction Act (“PRA”), Federal agencies are required to publish notice in the Federal Register concerning each proposed collection of information and to allow 60 days for public comment. This notice solicits comments on the swap data recordkeeping and reporting requirements codified in 17 CFR part 45. This part imposes recordkeeping and reporting requirements on the following entities: Swap Data Repositories (“SDRs”), Swap Execution Facilities (“SEFs”), Designated Contract Markets (“DCMs”), Derivatives Clearing Organizations (“DCOs”), Swap Dealers (“SDs”), Major Swap Participants (“MSPs)”, and swap counterparties that are neither swap dealers nor major swap participants (“non-SD/MSP counterparties”).

DATES: Comments must be submitted on or before October 6, 2015.

ADDRESSES: You may submit comments, identified by “Renewal of Collection Pertaining to Swap Data Recordkeeping and Reporting Requirements,” or Renewal 3038-0096, by any of the following methods:

• The Agency's Web site, at http://comments.cftc.gov/. Follow the instructions for submitting comments through the Web site.

• Mail: Christopher Kirkpatrick, Secretary of the Commission, Commodity Futures Trading Commission, Three Lafayette Centre, 1155 21st Street NW., Washington, DC 20581.

• Hand Delivery/Courier: Same as Mail above.

• Federal eRulemaking Portal: http://www.regulations.gov/. Follow the instructions for submitting comments through the Portal.

Please submit your comments using only one method.

FOR FURTHER INFORMATION CONTACT: Thomas Guerin, Division of Market Oversight, Commodity Futures Trading Commission, 1155 21st Street NW., (202) 734-4194; email: tguerin@cftc.gov, and refer to OMB Control No. 3038-0096.

SUPPLEMENTARY INFORMATION: Under the PRA, Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information before submitting the collection to OMB for approval. To comply with this requirement, the CFTC is publishing notice of the proposed collection of information listed below.

Title: Swap Data Recordkeeping and Reporting Requirements (OMB Control No. 3038-0096). This is a request for extension of a currently approved information collection.

Abstract: The collection of information is needed to ensure that the CFTC and other regulators have access to complete data concerning swaps, as required by the Commodity Exchange Act as amended by the Dodd-Frank Wall Street Reform and Consumer Protection Act, Public Law 111-203, 124 Stat. 1376 (2010). The data would be reported to and maintained in SDRs, where it would not be disclosed publicly, but would be available to the CFTC and other financial regulators for fulfillment of various regulatory mandates. The information is for use by government entities to provide oversight and supervision and to ensure compliance with statutes and regulations relating to swaps.

With respect to the collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the Information Collection Request will be retained in the public comment file and will be considered as required under the Administrative Procedure Act and other applicable laws, and may be accessible under the Freedom of Information Act.

Burden Statement: The total annual time burden for this collection is estimated to be 445,910 hours. This estimate includes the time to comply with swap data recordkeeping and reporting requirements codified in 17 CFR part 45. Provisions of CFTC Regulations 45.2, 45.3, 45.4, 45.5, 45.6, 45.7, and 45.14 result in information collection requirements within the meaning of the PRA. To the extent that the recordkeeping and reporting requirements codified in 17 CFR part 45 overlap with the requirements of other rulemakings for which the CFTC prepared and submitted an information collection burden estimate to OMB, the burden associated with the requirements are not being accounted for in the burden estimate for information collections under 17 CFR part 45 to avoid unnecessary duplication of information collection burdens.

Respondents/Affected Entities: SDRs, SEFs, DCMS, DCOs, SDs, MSPs, and non-SD/MSP counterparties.

Estimated number of respondents: 30,210.

Estimated total annual burden on respondents: 445,910 hours.

Frequency of collection: Ongoing.

Authority: 44 U.S.C. 3501 et seq.

Dated: August 3, 2015.
Robert N. Sidman,
Deputy Secretary of the Commission.

[FR Doc. 2015-19402 Filed 8-6-15; 8:45 am]

BILLING CODE 6351-01-P